DEPARTMENT OF TRANSPORTATION

Pipeline and Hazardous Materials Safety Administration

[Docket No. PHMSA-2018-0016]

Pipeline Safety: Information Collection Activities

AGENCY: Pipeline and Hazardous Materials Safety Administration (PHMSA), DOT.

ACTION: Notice and request for comments.

SUMMARY: On March 6, 2018, in accordance with the Paperwork Reduction Act of 1995, the Pipeline and Hazardous Materials Safety Administration (PHMSA) published a notice in the Federal Register (83 FR 9573) inviting comments on two information collections identified by OMB control numbers 2137-0594 and 2137-0622 that expire on May 31, 2018. PHMSA is requesting an extension with no change for these information collections.

During the public comment period, PHMSA received no comments in response to the information collections. PHMSA received fifteen comments that did not pertain to the information collection requests. PHMSA is publishing this notice to provide the public with an additional 30 days to comment on the renewal of the information collections referenced above and to announce that the information collection requests will be submitted to OMB for approval.

DATES: Interested persons are invited to submit comments on or before June 18, 2018 to be assured of consideration.

FOR FURTHER INFORMATION CONTACT: Angela Dow by telephone at 202-366-1246, by email at angela.dow@dot.gov, by fax at 202-366-4566, or by mail at U.S. Department of Transportation, PHMSA, 1200 New Jersey Avenue SE, PHP-30, Washington, DC 20590-0001.

ADDRESSES: You may submit comments identified by the docket number PHMSA-2018-0016 by any of the following methods:

• Fax: 1-202-395-5806.

• Mail: Office of Information and Regulatory Affairs, Records Management Center, Room 10102 NEOB, 725 17th Street NW, Washington, DC 20503, ATTN: Desk Officer for the U.S. Department of Transportation\PHMSA.

• Email: Office of Information and Regulatory Affairs, OMB, at the following email address: OIRA_Submission@omb.eop.gov.

Requests for a copy of the information collection should be directed to Angela Dow by telephone at 202-366-1246, by fax at 202-366-4566, by email at angela.dow@dot.gov, or by mail at U.S. Department of Transportation, PHMSA, 1200 New Jersey Avenue SE, PHP-30, Washington, DC 20590-0001.

Summary of Comments Received

During the 60-day comment period, PHMSA received fifteen (15) comments from anonymous submitters that emphasized the general importance of environmental safety in the oil and gas industry.

SUPPLEMENTARY INFORMATION: Section 1320.8(d), Title 5, Code of Federal Regulations, requires PHMSA to provide interested members of the public and affected agencies an opportunity to comment on information collection and recordkeeping requests. This notice identifies two information collection requests that PHMSA will submit to OMB for renewal. The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

1. Title: Customer-Owned Service Lines.

OMB Control Number: 2137-0594.

Current Expiration Date: 5/31/2018.

Type of Request: Renewal of a currently approved information collection.

Abstract: This information collection request requires operators of gas service lines who do not maintain their customers' buried piping between service lines and building walls or gas utilization equipment to send written notices to their customers prescribing the proper maintenance of these gas lines and of the potential hazards of not properly maintaining these gas lines. Operators also must maintain records that include a copy of the notice currently in use and evidence that notices were sent to customers within the previous three years. Examples of sufficient notification include a prepared notification with the customer's bill. The purpose of the collection is to provide PHMSA with adequate information about how customer-owned service lines are being maintained to prevent the potential hazards associated with not maintaining the lines.

Affected Public: State and local governments.

Annual Reporting and Recordkeeping Burden:

Estimated Number of Responses: 550,000.

Estimated Annual Burden Hours: 9,167.

Frequency of Collection: On Occasion.

2. Title: Pipeline Safety: Public Awareness Program.

OMB Control Number: 2137-0622.

Current Expiration Date: 5/31/2018.

Type of Request: Renewal of a currently approved information collection.

Abstract: The Federal Pipeline Safety Regulations require each operator to develop and implement a written continuing public education program that follows the guidance provided in the American Petroleum Institute's Recommended Practice (RP) 1162. Upon request, operators must submit their completed programs to PHMSA or, in the case of an intrastate pipeline facility operator, the appropriate state agency. The operator's program documentation and evaluation results must also be available for periodic review by appropriate regulatory agencies (49 CFR 192.616 and 195.440). The purpose of the collection is to establish communications and provide information necessary to enhance public understanding of how pipelines function and the public's role in promoting pipeline safety. The timeframe for developing programs is 23 hours annually per operator.

Affected Public: Operators of Natural Gas and Hazardous Liquid Pipelines.

Estimated Number of Responses: 22,500.

Estimated Annual Burden Hours: 517,480 hours.

Frequency of Collection: Annual.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC on May 11, 2018, under authority delegated in 49 CFR 1.97.
John A. Gale,
Director, Standards and Rulemaking Division.

[FR Doc. 2018-10538 Filed 5-16-18; 8:45 am]

BILLING CODE 4910-60-P